DEPARTMENT OF STATE

[Public Notice 7886]

Shipping Coordinating Committee; Notice of Committee Meeting

The Shipping Coordinating Committee (SHC) will conduct an open meeting at 9:30 a.m. on Wednesday, June 6, 2012, in Room 51222 of the United States Coast Guard Headquarters Building, 2100 Second Street SW., Washington, DC 20593-0001. The primary purpose of the meeting is to prepare for the fifty-eighth Session of the International Maritime Organization's (IMO) Sub-Committee on Safety of Navigation to be held at the IMO Headquarters, United Kingdom, July 2 to 6, 2012.

The primary matters to be considered include:

—Adoption of the Agenda

—Decisions of other IMO bodies

—Routeing of ships, ship reporting and related matters

—Amendments to the General Provisions on Ships' Routeing (resolution A.572(14), as amended)

—International Telecommunication Union (ITU) matters, including Radiocommunication ITU-R Study Group matters

—Development of an e-navigation strategy implementation plan

—Development of policy and new symbols for Automatic Identification System (AIS) aids to navigation

—Casualty analysis

—Consideration of International Association of Classification Societies (IACS) unified interpretations

—Development of performance standards for inclinometers

—Biennial agenda and provisional agenda for NAV 59

—Election of Chairman and Vice-Chairman for 2013

—Any other business

—Report to the Maritime Safety Committee

Members of the public may attend this meeting up to the seating capacity of the room. To facilitate the building security process, and to request reasonable accommodation, those who plan to attend should contact the meeting coordinator, Mr. George H. Detweiler, Jr., by email at George.H.Detweiler@uscg.mil, by phone at (202) 372-1566, by fax at (202) 372-1991, or in writing at Commandant (CG-NAV-3), U.S. Coast Guard, 2100 2nd Street SW., Stop 7580, Washington, DC 20593-7580 not later than May 30, 2012, 7 days prior to the meeting. Requests made after May 30, 2012, might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: May 7, 2012.
Brian Robinson,
Executive Secretary, Shipping Coordinating Committee, Department of State.

[FR Doc. 2012-11864 Filed 5-15-12; 8:45 am]

BILLING CODE 4710-09-P